DEPARTMENT OF TRANSPORTATION

Pipeline and Hazardous Materials Safety Administration

Office of Hazardous Materials Safety; Notice of Applications for Modification of Special Permit

AGENCY: Pipeline and Hazardous Materials Safety Administration (PHIMSA), DOT.

ACTION: List of applications for modification of special permits.

SUMMARY: In accordance with the procedures governing the application for, and the processing of, special permits from the Department of Transportation's Hazardous Material Regulations (49 CFR part 107, subpart B), notice is hereby given that the Office of Hazardous Materials Safety has received the applications described herein. This notice is abbreviated to expedite docketing and public notice. Because the sections affected, modes of transportation, and the nature of application have been shown in earlier Federal Register publications, they are not repeated here. Requests for modification of special permits (e.g. to provide for additional hazardous materials, packaging design changes, additional mode of transportation, etc.) are described in footnotes to the application number. Application numbers with the suffix “M” denote a modification request. These applications have been separated from the new application for special permits to facilitate processing.

DATES: Comments must be received on or before July 2, 2010.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue, SE., Washington DC or at http://regulations.gov.

This notice of receipt of applications for modification of special permit is published in accordance with part 107 of the Federal hazardous materials transportation law (49 U.S.C. 5117(b); 49 CFR 1.53(b)).

Issued in Washington, DC, on June 8, 2010.
Delmer F. Billings,
Director, Office of Hazardous Materials, Special Permits and Approvals.

Application No. | Docket No. | Applicant | Regulation(s) affected | Nature of special permit thereof
Modification Special Permits
8445-M |  | Clean Harbors Environmental Services, Inc., Norwell, MA | 49 CFR Part 173, Subparts A, B, C, D, E | To modify the special permit to authorize the assignment of a generic description from the 49 CFR 172.101 Table to describe hazardous materials with different primary hazard classes packed in accordance with this special permit.
10785-M |  | Thermo Process Instruments, LP (Former Grantee: Thermo Measure Tech), Sugar Land, TX | 49 CFR 173.301(a) (1), 173.302a, 175.3 | To modify the special permit to authorize the addition of boron trifluoride to the “Type V” cylinder under paragraph 7.a.(vi) as an alternative to Helium-3 and in Section 7.d to increase the amount of boron trifluoride that is allowed in passenger or cargo aircraft.
11789-M |  | Mallard Creek Polymers, Inc., Charlotte, NC | 49 CFR 174.67(i), (j) | To modify the special permit to authorize an additional Class 3 hazardous material.
12929-M |  | Air Products & Chemicals, Inc., Allentown, PA | 49 CFR 173.301(j)(1) | To modify the special permit to incorporate updates that have to do with the HMR and the Dangerous Goods Model Regulations.
14190-M |  | Cordis Corporation, Miami Lakes, FL | 49 CFR 172.200, 172.300, 172.400 | To modify the special permit to remove certain of Class 3 and 9 materials from paragraph 6 and to add additional Class 3, 8, and Division 4.1 materials.
14904-M |  | Tatonduk Outfitters Limitd dba Everts Air Alaska, Fairbanks, AK | 49 CFR 173.302(f) | To modify the special permit to extend the date in paragraph 11(b) to September 30, 2010.
14906-M |  | Arctic Transportation Services, Anchorage AK | 49 CFR 173.302(f) | To modify the special permit to extend the date in paragraph 11(b) to September 30, 2010.
14922-M |  | Peninsula Airways Inc. (PenAir), Anchorage, AK | 49 CFR 173.302(f) | To modify the special permit to extend the date in paragraph 11(b) to September 30, 2010.
14923-M |  | Spernak Airways, Anchorage, AK | 49 CFR 173.302(f) | To modify the special permit to extend the date in paragraph 11(b) to September 30, 2010.
14925-M |  | Warbelow's Air Ventures, Inc., Fairbanks, AK | 49 CFR 173.302(f) | To modify the special permit to extend the date in paragraph 11(b) to September 30, 2010.
14931-M |  | Tucker Aviation Inc., Dillingham, AK | 49 CFR 173.302(f) | To modify the special permit to extend the date in paragraph 11(b) to September 30, 2010.
14974-M |  | Continental Batteries, Dallas, TX | 49 CFR 173.159(e)(4) | To reissue the special permit originally issued on an emergency basis to authorize transportation in commerce of lead batteries from more than one shipper without voiding the exception in § 173.159(e).

[FR Doc. 2010-14425 Filed 6-16-10; 8:45 am]

BILLING CODE 4909-60-M